DEPARTMENT OF AGRICULTURE

Forest Service

Tuolumne County Resource Advisory Committee

AGENCY: Forest Service, USDA.

ACTION: Notice of meeting.

SUMMARY: The Tuolumne County Resource Advisory Committee will meet on July 18, 2005, at the City of Sonora Fire Department, in Sonora, California. The purpose of the meeting is to review 15 project submittals based on presentation made by project proponents.

DATES: The meetings will be held July 18, 2005, from 12 p.m. to 3 p.m.

ADDRESSES: The meeting will be held at the City of Sonora Fire Department located at 201 South Shepherd Street, in Sonora, California (CA 95370).

FOR FURTHER INFORMATION CONTACT: Paul Kaunert, Committee Coordinator, USDA, Stanislaus National Forest, 19777 Greenley Road, Sonora, CA 95370 (209) 532-3671; e-mail pkaunert@fs.fed.us.

SUPPLEMENTARY INFORMATION: Agenda items to be covered include: (1) Presentation of project submittals by project proponents, with follow-up question and answer sessions. Time allocation for each presentation and question/answer session is 10 minutes; (2) public comments on meeting proceeding. This meeting is open to the public.

Dated: June 30, 2005.
Tom Quinn,
Forest Supervisor.

[FR Doc. 05-13325 Filed 7-6-05; 8:45 am]

BILLING CODE 3410-ED-M